DEPARTMENT OF TRANSPORTATION

Federal Aviation Administration

Notice of Availability of the Final Environmental Assessment and Finding of No Significant Impact for the Titusville-Cocoa Airport Authority Launch Site Operator License

AGENCY: The Federal Aviation Administration (FAA), Department of Transportation (DOT) is the lead agency. The National Aeronautics and Space Administration (NASA) and the U.S. Air Force are cooperating agencies for this Environmental Assessment (EA) due to their special expertise and jurisdictions (40 CFR 1508.15 and 1508.26).

ACTION: Notice of availability.

SUMMARY: The FAA is announcing the availability of the Final Environmental Assessment and Finding of No Significant Impact for the Titusville-Cocoa Airport Authority (TCAA) Launch Site Operator License (Final EA and FONSI). The FAA has prepared the EA to evaluate the potential environmental impacts of the FAA issuing a Launch Site Operator License to TCAA for the operation of a commercial space launch site at the Space Coast Regional Airport (TIX) in Titusville, FL. TCAA proposes to offer the launch site for launches of horizontal reusable launch vehicles and construct facilities related to launches.

FOR FURTHER INFORMATION CONTACT: Ms. Stacey M. Zee, Environmental Protection Specialist, Federal Aviation Administration, 800 Independence Avenue SW, Suite 325, Washington, DC 20591; email Stacey.Zee@faa.gov.

SUPPLEMENTARY INFORMATION: The FAA has prepared the EA in accordance with the National Environmental Policy Act of 1969 (NEPA; 42 United States Code 4321 et seq.), the Council on Environmental Quality Regulations for Implementing the Procedural Provisions of NEPA (40 Code of Federal Regulations parts 1500-1508), and FAA Order 1050.1F, Environmental Impacts: Policies and Procedures, as part of its licensing process. Concurrent with the NEPA process and to determine the potential effects of the Proposed Action on historic and cultural properties, the FAA completed Section 106 Consultation with the Florida State Historic Preservation Office and the following Native America tribes: The Miccosukee Tribe of Indians of Florida, the Mississippi Band of Choctaw Indians, the Muscogee (Creek) Nation, the Poarch Band of Creek Indians, the Seminole Tribe of Florida, and the Seminole Nation of Oklahoma. Through consultation, the Mississippi Band of Choctaw Indians requested to be removed from the list of tribes consulted for this project. Pursuant to the U.S. Department of Transportation Act of 1966, this EA complies with the requirements of Section 4(f) of the Act.

The FAA published a Draft EA for public comment on December 19, 2019. A public meeting was held on January 8, 2020. The comment period ended January 17, 2020. As a result of the comments received, the FAA made minor revisions to the EA. Appendix I includes copies of the comments received and a summary of FAA's responses. The Final EA was signed on April 15, 2020.

An electronic version of the Final EA is available on the FAA Office of Commercial Space Transportation website at: https://www.faa.gov/space/environmental/nepa_docs/#SCASPA.

Daniel Murray,
Manager, Safety Authorization Division.

[FR Doc. 2020-10010 Filed 5-8-20; 8:45 am]

BILLING CODE 4910-13-P